FEDERAL DEPOSIT INSURANCE CORPORATION

FDIC Systemic Resolution Advisory Committee; Notice of Meeting

AGENCY: Federal Deposit Insurance Corporation.

ACTION: Notice of open meeting.

SUMMARY: In accordance with the Federal Advisory Committee Act, Pub. L. 92-463 (Oct. 6, 1972), 5 U.S.C. App. 2, notice is hereby given of a meeting of the FDIC Systemic Resolution Advisory Committee (the “SR Advisory Committee”), which will be held in Washington, DC. The SR Advisory Committee will provide advice and recommendations on a broad range of issues regarding the resolution of systemically important financial companies pursuant to the Dodd-Frank Wall Street Reform and Consumer Protection Act, Pub. L. 111-203 (July 21, 2010), 12 U.S.C. 5301 et seq. (the “Dodd-Frank Act”).

DATES: Thursday, April 14, 2016, from 9:00 a.m. to 3:00 p.m.

ADDRESSES: The meeting will be held in the FDIC Board Room on the sixth floor of the FDIC Building located at 550 17th Street NW., Washington, DC.

FOR FURTHER INFORMATION CONTACT: Requests for further information concerning the meeting may be directed to Mr. Robert E. Feldman, Committee Management Officer of the FDIC, at (202) 898-7043.

SUPPLEMENTARY INFORMATION:

Agenda

The agenda will include a discussion of a range of issues and developments related to the resolution of systemically important financial companies pursuant to the Dodd-Frank Act. The agenda may be subject to change. Any changes to the agenda will be announced at the beginning of the meeting.

Type of Meeting

The meeting will be open to the public, limited only by the space available, on a first-come, first-served basis. For security reasons, members of the public will be subject to security screening procedures and must present valid photo identification to enter the building. The FDIC will provide attendees with auxiliary aids (e.g., sign language interpretation) required for this meeting. Those attendees needing such assistance should call (703) 562-6067 (Voice or TTY) at least two days before the meeting to make necessary arrangements. Written statements may be filed with the SR Advisory Committee before or after the meeting. This SR Advisory Committee meeting will be Webcast live via the Internet and subsequently made available on-demand approximately two weeks after the event. Visit https://fdic.primetime.mediaplatform.com/#!/channel/1384300429544/ Advisory+Committee+on+Systemic+Resolution to view the event. If you need any technical assistance, please visit our Video Help page at: https://www.fdic.gov/video.html.

Dated: March 25, 2016.
Federal Deposit Insurance Corporation.
Robert E. Feldman,
Executive Secretary, Federal Deposit Insurance Corporation.

[FR Doc. 2016-07127 Filed 3-29-16; 8:45 am]

BILLING CODE 6714-01-P